DEPARTMENT OF AGRICULTURE

Forest Service

Notice of Resource Advisory Committee Meeting

AGENCY: Modoc Resource Advisory Committee, Alturas, California, USDA Forest Service.

ACTION: Notice of meetings.

SUMMARY: Pursuant to the authorities in the Federal Advisory Committees Act (Public Law 92-463) and under the Secure Rural Schools and Community Self-Determination Act of 2000 (Public Law 106-393) the Modoc National Forest's Modoc Resource Advisory Committee will meet Saturday, November 17, 2001 and Saturday, December 1, 2001 in Alturas, California for business meetings. The meetings are open to the public.

SUPPLEMENTARY INFORMATION: The business meeting Nov. 17 begins at 9:30 am, at the Modoc National Forest Office, Conference Room, 800 West 12th St., Alturas. Agenda topics will include FACA overview, Charter overview, Process for project identification/recommendation, election of Chairperson, operating guidelines, and establish future meetings. Time will be set aside for public comments. The business meeting December 1, 2001 begins at 9:30 am, at the Modoc National Forest Office, Conference Room, 800 West 12th Street, Alturas. Agenda topics will include operating guidelines and review and discussion of potential projects on the Modoc National Forest that meet the intent of Pub. L. 106-393. Time will be set aside for public comments.

FOR FURTHER INFORMATION Contact: Dan Chisholm, Forest Supervisor and Designated Federal Officer, at (530) 233-8700; or Public Affairs Officer Nancy Gardner at (530) 233-8713.

Dan Chisholm,
Forest Supervisor.

[FR Doc. 01-26872 Filed 10-24-01; 8:45 am]

BILLING CODE 3410-11-P